DEPARTMENT OF HEALTH AND HUMAN SERVICES

Food and Drug Administration

[Docket No. 01F-0047]

The National Fisheries Institute; Filing of Food Additive Petition

AGENCY: Food and Drug Administration, HHS.

ACTION: Notice.

SUMMARY: The Food and Drug Administration (FDA) is announcing that the National Fisheries Institute has filed a petition proposing that the food additive regulations be amended to provide for the safe use of ionizing radiation for control of foodborne pathogens in crustaceans and processed crustaceans.

FOR FURTHER INFORMATION CONTACT: Lane A. Highbarger, Center for Food Safety and Applied Nutrition (HFS-206), Food and Drug Administration, 200 C St. SW., Washington, DC 20204, 202-418-3032.

SUPPLEMENTARY INFORMATION: Under the Federal Food, Drug, and Cosmetic Act (sec. 409(b)(5) (21 U.S.C. 348(b)(5))), notice is given that a food additive petition (FAP 1M4727) has been filed by the National Fisheries Institute, 1901 North Fort Myer Dr., Arlington, VA 22209. The petition proposes to amend the food additive regulations in Part 179 Irradiation in the Production, Processing and Handling of Food (21 CFR part 179) to provide for the safe use of ionizing radiation for control of foodborne pathogens in raw-, frozen-, cooked-, partially cooked-, shelled-, or dried-crustaceans, or cooked- or ready-to-cook crustaceans processed with batter, breading, spices, or small amounts of other food ingredients.

The agency has determined under 21 CFR 25.32(j) that this action is of a type that does not individually or cumulatively have a significant effect on the human environment. Therefore, neither an environmental assessment nor an environmental impact statement is required.

Dated: January 11, 2001.
Alan M. Rulis,
Director, Office of Premarket Approval, Center for Food Safety and Applied Nutrition.

[FR Doc. 01-3095 Filed 2-5-01; 8:45 am]

BILLING CODE 4160-01-S